DEPARTMENT OF ENERGY

Federal Energy Regulatory Commission

Combined Notice of Filings

Take notice that the Commission has received the following Natural Gas Pipeline Rate and Refund Report filings:

Docket Numbers: RP20-783-000.

Applicants: Columbia Gas Transmission, LLC.

Description: Compliance filing X-103 Abandonment to be effective 3/31/2020.

Filed Date: 4/14/20.

Accession Number: 20200414-5002.

Comments Due: 5 p.m. ET 4/27/20.

Docket Numbers: RP20-784-000.

Applicants: Maritimes & Northeast Pipeline, L.L.C.

Description: § 4(d) Rate Filing: MNUS Cleanup Filing—Remove NC Agrmt K9003 to be effective 5/14/2020.

Filed Date: 4/14/20.

Accession Number: 20200414-5003.

Comments Due: 5 p.m. ET 4/27/20.

Docket Numbers: RP20-785-000.

Applicants: Kern River Gas Transmission Company.

Description: § 4(d) Rate Filing: 2020 Expiring Negotiated Rate Agreements to be effective 5/1/2020.

Filed Date: 4/15/20.

Accession Number: 20200415-5036.

Comments Due: 5 p.m. ET 4/27/20.

Docket Numbers: RP20-786-000.

Applicants: Gas Transmission Northwest LLC.

Description: § 4(d) Rate Filing: GTN 2020 Housekeeping Filing to be effective 5/15/2020.

Filed Date: 4/15/20.

Accession Number: 20200415-5074.

Comments Due: 5 p.m. ET 4/27/20.

Docket Numbers: RP20-787-000.

Applicants: Bison Pipeline LLC.

Description: § 4(d) Rate Filing: 2020 Bison Housekeeping Filing to be effective 5/15/2020.

Filed Date: 4/15/20.

Accession Number: 20200415-5076.

Comments Due: 5 p.m. ET 4/27/20.

Docket Numbers: RP20-788-000.

Applicants: Kinetica Energy Express, LLC.

Description: Compliance filing Petition for Approval of Settlement.

Filed Date: 4/15/20.

Accession Number: 20200415-5137.

Comments Due: 5 p.m. ET 4/27/20.

Docket Numbers: RP20-789-000.

Applicants: Enable Mississippi River Transmission, LLC.

Description: § 4(d) Rate Filing: Negotiated Rate Filing—CES 5801 RP18-923 & RP20-131 Settlement to be effective 1/1/2019.

Filed Date: 4/15/20.

Accession Number: 20200415-5166.

Comments Due: 5 p.m. ET 4/27/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 16, 2020.
Nathaniel J. Davis, Sr.,
Deputy Secretary.

[FR Doc. 2020-08513 Filed 4-21-20; 8:45 am]

BILLING CODE 6717-01-P